DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The National Health Service Corps (NHSC) Scholarship Program In-School Worksheets (OMB No. 0915-0250)—Extension

The National Health Service Corps (NHSC) Scholarship Program was established to help alleviate the geographical and specialty maldistribution of physicians and other health practitioners in the United States. Under this program, health professional students are offered scholarships in return for services in a federally-designated Health Professional Shortage Area (HPSA). If awarded an NHSC Scholarship, the Program requires the schools and the awardees to review and complete data collection worksheets for each year that the student is a NHSC Scholar.

The Data Sheet requests that the NHSC Scholar review the form for the accuracy of information such as, social security number, contact information, current curriculum, and date of graduation. If the information is inaccurate, the scholar makes the necessary changes directly on the form. If the inaccurate information pertains to the curriculum or date of graduation, the scholar will make changes directly on the form and include written notification from the school.

The Verification Sheet is sent to the school along with a list of the NHSC scholars that are enrolled for the current academic year. The schools verify and/or correct the enrollment status of each of the scholars on the list.

The Contact Sheet requests contact information for pertinent school officials. This information is used by the NHSC Scholarship Program for future contacts with the schools. The estimated burden is as follows:

Form name | Number of respondents | Responses per respondent | Hours per response (in minutes) | Total burden hours
Scholar Data Sheet | 800 | 1 | 10 | 134
Verification Sheet | 300 | 1 | 10 | 50
Contact Sheet | 550 | 1 | 10 | 92
Total | 1,350 |  |  | 276

Written comments and recommendations concerning the proposed information collection should be sent within 30 days of this notice to: Desk Officer, Health Resources and Services Administration, Human Resources and Housing Branch, Office of Management and Budget, New Executive Office Building, Room 10235, Washington, DC 20503.

Dated: February 17, 2004.
Tina M. Cheatham,
Director, Division of Policy Review and Coordination.

[FR Doc. 04-4036 Filed 2-24-04; 8:45 am]

BILLING CODE 4165-15-P